COMMITTEE FOR PURCHASE FROM PEOPLE WHO ARE BLIND OR SEVERELY DISABLED

Procurement List; Proposed Additions and Deletions

AGENCY: Committee for Purchase From People Who Are Blind or Severely Disabled.

ACTION: Proposed Additions to and Deletions from the Procurement List.

SUMMARY: The Committee is proposing to add products to the Procurement List that will be furnished by the nonprofit agency employing persons who are blind or have other severe disabilities, and deletes products and services previously furnished by such agencies.

DATES: Comments must be received on or before October 2, 2016.

ADDRESSES: Committee for Purchase From People Who Are Blind or Severely Disabled, 1401 S. Clark Street, Suite 715, Arlington, Virginia 22202-4149.

FOR FURTHER INFORMATION CONTACT: Barry S. Lineback, Telephone: (703) 603-7740, Fax: (703) 603-0655, or email CMTEFedReg@AbilityOne.gov.

SUPPLEMENTARY INFORMATION: This notice is published pursuant to 41 U.S.C. 8503(a)(2) and 41 CFR 51-2.3. Its purpose is to provide interested persons an opportunity to submit comments on the proposed actions.

Additions

If the Committee approves the proposed additions, the entities of the Federal Government identified in this notice will be required to procure the products listed below from the nonprofit agency employing persons who are blind or have other severe disabilities.

The following products are proposed for addition to the Procurement List for production by the nonprofit agency listed:

Products

NSN(s)—Product Name(s):

8465-01-608-7503—Bag, Sleeping, Outer, Extreme Cold Weather (ECW OSB) U.S. Marine Corps, Regular;

8465-01-623-2346—Bag, Sleeping, Outer, Extreme Cold Weather (ECW OSB) U.S. Marine Corps, Extra Long

Mandatory Source(s) of Supply: ReadyOne Industries, Inc., El Paso, TX

Mandatory Purchase for: 50% of the requirements of Department of Defense

Contracting Activity: Defense Logistics Agency Troop Support

Distribution: C-List

Deletions

The following products and services are proposed for deletion from the Procurement List:

Products

Product Name(s)—NSN(s):

8415-01-519-7867—Jacket, Level 3, PCU, Marine Corps, Brown, L

8415-01-519-7868—Jacket, Level 3, PCU, Marine Corps, Brown, M

8415-01-519-8079—Jacket, Level 3, PCU, Marine Corps, Brown, L-L

8415-01-519-8083—Jacket, Level 3, PCU, Marine Corps, Brown, S

8415-01-519-8084—Jacket, Level 3, PCU, Marine Corps, Brown, XL-L

8415-01-519-8087—Jacket, Level 3, PCU, Marine Corps, Brown, XL

Contracting Activities: Commander, Quantico, VA, Army Contracting Command—Aberdeen Proving Ground, Natick Contracting Division

8415-01-535-7954—Shirt, Level 3, PCU, Army, Brown, XXL

8415-01-542-8541—Jacket, Lightweight Extreme Cold Weather Insulating Level 3, PCU, Army, Brown, XXLL

8415-01-542-8544—Jacket, Lightweight Extreme Cold Weather Insulating, Level 3, PCU, Army, Brown, S

8415-01-542-8548—Jacket, Lightweight Extreme Cold Weather Insulating, Level 3, PCU, Army, Brown, M

8415-01-542-8551—Jacket, Lightweight Extreme Cold Weather Insulating, Level 3, PCU, Army, Brown, L

8415-01-542-8554—Jacket, Lightweight Extreme Cold Weather Insulating, Level 3, PCU, Army, Brown, L-L

8415-01-542-8557—Jacket, Lightweight Extreme Cold Weather Insulating, Level 3, PCU, Army, Brown, XL-L

8415-01-542-8558—Jacket, Lightweight Extreme Cold Weather Insulating, Level 3, PCU, Army, Brown, XL

8415-01-542-8560—Jacket, Lightweight Extreme Cold Weather Insulating, Level 3, PCU, Army, Brown, XXL

8415-01-542-8561—Jacket, Lightweight Extreme Cold Weather Insulating, Level 3, PCU, Army, Brown, XS

8415-01-543-7040—Jacket, Extreme Cold Weather Level 3, PCU, Army, Brown, M-L

8415-01-544-6756—Jacket, Extreme Cold Weather Level 3, PCU, Army, Brown, XXXL

8415-01-544-6759—Jacket, Extreme Cold Weather Level 3, PCU, Army, Brown, XXXLL

Contracting Activity: Army Contracting Command—Aberdeen Proving Ground, Natick Contracting Division

Product Name(s)—NSN(s): 7930-01-436-7950—Phenolic Disinfectant

Mandatory Source(s) of Supply: Beacon Lighthouse, Inc., Wichita Falls, TX

Contracting Activities: U.S. Postal Service, Department of Veterans Affairs, General Services Administration, Fort Worth, TX

Product Name(s)—NSN(s): 7530-01-354-2327—Envelope, Translucent, 4½ x 11″, 7530-01-354-3982—Envelope, Translucent, 4 x 7″, 7530-01-354-3983—Envelope, Translucent, 9½ x 11″

Mandatory Source(s) of Supply: Industries for the Blind, Inc., West Allis, WI

Contracting Activity: General Services Administration, New York, NY

Product Name(s)—NSN(s): 7520-00-255-7081—Clipboard, Arch, Brown, 9″ x 17″, 7520-00-191-1075—Clipboard, Arch, With Perforator, Brown, 9″ x 17″

Mandatory Source(s) of Supply: Industries of the Blind, Inc., Greensboro, NC

Contracting Activity: General Services Administration, New York, NY

Product Name(s)—NSN(s): 7520-01-424-4849—Marker, Permanent Ink (Colossal) (Black)

Mandatory Source(s) of Supply: Dallas Lighthouse for the Blind, Inc., Dallas, TX

Contracting Activity: General Services Administration, New York, NY

Product Name(s)—NSN(s): 8415-01-487-5148—Cap, Baseball, embroidered, Navy, Blue

Mandatory Source(s) of Supply: ReadyOne Industries, Inc., El Paso, TX

Contracting Activity: Defense Logistics Agency Troop Support

Services

Service Type: Interior Landscaping/Copier Operation Service

Mandatory for: Department of Agriculture, 5601 Sunnyside Avenue, Beltsville, MD

Mandatory Source(s) of Supply: Blind Industries & Services of Maryland, Baltimore, MD

Contracting Activity: Dept of Agriculture, Procurement Operations Division

Service Type: Mailing Service

Mandatory for: Department of Housing and Urban Development, 7 7th St. NW., Washington, DC

Mandatory Source(s) of Supply: Virginia Industries for the Blind, Charlottesville, VA

Contracting Activity: Dept of Housing and Urban Development

Service Type: ShadowBoarding Service

Mandatory for: Fleet and Industrial Supply Center, P.O. Box 97, Naval Air Station, Jacksonville, FL

Mandatory Source(s) of Supply: Mississippi Industries for the Blind, Jackson, MS

Contracting Activity: DOD/Department of the Navy

Service Type: Order Processing Service

Mandatory for: GSA, Northeast Distribution Center: Federal Supply Service (3FS), 1900 River Rd, Burlington, NJ

Mandatory Source(s) of Supply: Bestwork Industries for the Blind, Inc., Cherry Hill, NJ

Contracting Activity: GSA/FAS Tools Acquisition Division II

Service Type: Microfilming Tax Forms Service

Mandatory for: Internal Revenue Service, 312 Elm St #2300, Cincinnati, OH

Mandatory Source(s) of Supply: Blind Industries & Services of Maryland, Baltimore, MD

Contracting Activity: Department of the Treasury

Service Type: Assembly Service

Mandatory for: U.S. Information Agency, 400 C Street SW., Washington, DC

Mandatory Source(s) of Supply: Virginia Industries for the Blind, Charlottesville, VA

Contracting Activity: Dept of State, Office of Acquisition Mgmt—MA

Service Type: Duplicating Service

Mandatory for: U.S. Army Corps of Engineers, 10 S Howard St, Baltimore, MD

Mandatory Source(s) of Supply: North Central Sight Services, Inc., Williamsport, PA

Contracting Activity: Dept of the Army, W40M NORTHEREGION Contract Ofc

Service Type: Employment Placement Service

Mandatory for Defense Logistics Agency: National Human Resource Offices (HRO) Locations—Columbus, OH; Richmond, VA; Battle, Fort Belvoir, VA

Mandatory Source(s) of Supply: Center for the Blind and Visually Impaired, Chester, PA

Contracting Activity: Defense Logistics Agency Aviation

Service Type: Administrative Service

Mandatory for: General Services Administration, 100 Penn Square East, Philadelphia, PA

Mandatory Source(s) of Supply: Center for the Blind and Visually Impaired, Chester, PA

Contracting Activity: General Services Administration, FPDS Agency Coordinator

Service Type: Administrative/General Support Service

Mandatory for: GSA, Southwest Supply Center, 819 Taylor Street, Fort Worth, TX

Mandatory Source(s) of Supply: NewView Oklahoma, Inc., Oklahoma City, OK

Contracting Activity: General Services Administration, FPDS Agency Coordinator

Service Type: Customer Service Representatives Service

Mandatory for: GSA, Philadelphia Region 3: Federal Supply Service Bureau, Philadelphia, PA

Mandatory Source(s) of Supply: Center for the Blind and Visually Impaired, Chester, PA

Contracting Activity: General Services Administration, FPDS Agency Coordinator

Service Type: Parts Machining Service

Mandatory for: Mare Island Naval Shipyard, Vallejo, CA

Mandatory Source(s) of Supply: West Texas Lighthouse for the Blind, San Angelo, TX

Contracting Activity: DOD/Department of the Navy

Service Type: Employment Placement Service

Mandatory for: Defense Logistics Agency: National Human Resource Offices, 8725 John J Kingman Rd #2545, Fort Belvoir, VA

Mandatory Source(s) of Supply: Columbia Lighthouse for the Blind, Washington, DC

Contracting Activity: Defense Logistics Agency Aviation

Service Type: Order Processing Service

Mandatory for: Federal Prison Industries, Lexington, KY

Mandatory Source(s) of Supply: Clovernook Center for the Blind and Visually Impaired, Cincinnati, OH

Contracting Activity: Federal Prison System, Central Office

Service Type: Medical Transcription Service

Mandatory for: Patuxent River Naval Air Station: U.S. Naval Hospital, 47149 Buse Road, Unit 1370, Patuxent River, MD

Mandatory Source(s) of Supply: Lighthouse for the Blind of Houston, Houston, TX

Contracting Activity: DOD/Department of the Navy

Service Type: Photocopying Service

Mandatory for: James E. Van Zandt Veterans Affairs Medical Center, 2907 Pleasant Valley Blvd., Altoona, PA

Mandatory Source(s) of Supply: North Central Sight Services, Inc., Williamsport, PA

Contracting Activity: Department of Veterans Affairs

Service Type: HTML Coding of Forest Health Monitoring Service

Mandatory for: USDA, Forest Service, North Central Forest Experiment Station, St. Paul, MN

Mandatory Source(s) of Supply: North Central Sight Services, Inc., Williamsport, PA

Contracting Activity: Dept of Agriculture, Procurement Operations Division

Service Type: Duplicating Service

Mandatory for: U.S. Army Corps of Engineers, 100 Liberty Avenue, Pittsburgh, PA

Mandatory Source(s) of Supply: North Central Sight Services, Inc., Williamsport, PA

Contracting Activity: Dept of the Army, W40M NORTHEREGION Contract Ofc

Service Type: Medical Transcription Service

Mandatory for: Veterans Affairs Medical Center, 150 S. Huntington Avenue, Boston, MA

Mandatory Source(s) of Supply: Massachusetts Commission for the Blind Ferguson Industries for the Blind (Deleted), Malden, MA

Contracting Activity: Department of Veterans Affairs

Service Type: Administrative/General Support Service

Mandatory for: GSA, Northeast Distribution Center, Federal Supply Service (3FS), Burlington, NJ

Mandatory Source(s) of Supply: Bestwork Industries for the Blind, Inc., Cherry Hill, NJ

Contracting Activity: General Services Administration, FPDS Agency Coordinator

Service Type: Administrative Support Service

Mandatory for: Federal Bureau of Prisons, Old North Carolina Highway 75, Butner, NC

Mandatory Source(s) of Supply: RLCB, Inc., Raleigh, NC

Contracting Activity: Federal Prison System, Terminal Island, FCI

Service Type: Electronic Service Customer Representative Service

Mandatory for: Securities & Exchange Commission Library, 2100 2nd St., SW., Rm. 110, Washington, DC

Mandatory Source(s) of Supply: Columbia Lighthouse for the Blind, Washington, DC

Contracting Activity: Securities and Exchange Commission

Service Type: Fulfillment Service

Mandatory for: Veterans Affairs Blind Rehabilitation Center, 1 Freedom Way, Augusta, GA

Mandatory Source(s) of Supply: Columbia Lighthouse for the Blind, Washington, DC

Contracting Activity: Department of Veterans Affairs

Service Type: Administrative/General Support Service

Mandatory for: Office of Personnel Management: Inspector General Office, 1900 E Street NW., Washington, DC

Mandatory Source(s) of Supply: Columbia Lighthouse for the Blind, Washington, DC

Contracting Activity: Office of Personnel Management

Service Type: Sponge Rubber Mattress Rehabilitation Service

Mandatory for: Requirements for GSA Region 3, 100 S Independence Mall West, Philadelphia, PA

Mandatory Source(s) of Supply: Virginia Industries for the Blind, Charlottesville, VA

Contracting Activity: DOD/Department of the Navy

Service Type: Order Processing Service

Mandatory for: McGuire Air Force Base, 2786 Mitchell Rd, McGuire AFB, NJ

Mandatory Source(s) of Supply: Bestwork Industries for the Blind, Inc., Cherry Hill, NJ

Contracting Activity: Dept of the Air Force, FA7014 AFDW PK

Service Type: Operation of Postal Service Center Service

Mandatory for: Seymour-Johnson Air Force Base, 1630 Martin St, Seymour-Johnson AFB, NC

Mandatory Source(s) of Supply: Lions Industries for the Blind, Inc., Kinston, NC

Contracting Activity: Dept of the Air Force, FA7014 AFDW PK

Service Type: Janitorial/Custodial Service

Mandatory for: Defense Supply Center Columbus, 3990 East Broad Street, Columbus, OH

Contracting Activity: Defense Logistics Agency Land and Maritime

Service Type: Administrative/General Support Service

Mandatory for: GSA, Southwest Supply Center, 819 Taylor Street, Fort Worth, TX

Mandatory Source(s) of Supply: New Mexico Industries for the Blind (Deleted), Santa Fe, NM

Contracting Activity: General Services Administration, FPDS Agency Coordinator

Service Type: Release of Information Copying Service

Mandatory for: Veterans Affairs Medical Center, 421 North Main Street, Leeds, MA

Mandatory Source(s) of Supply: Massachusetts Commission for the Blind Ferguson Industries for the Blind (Deleted), Malden, MA

Contracting Activity: Department of Veterans Affairs

Barry S. Lineback,
Director, Business Operations.

[FR Doc. 2016-21207 Filed 9-1-16; 8:45 am]

BILLING CODE 6353-01-P